DEPARTMENT OF EDUCATION

Notice of Proposed Information Collection Requests

AGENCY: Department of Education (ED).

ACTION: Notice of proposed information collection requests.

SUMMARY: The Acting Director, Information Collection Clearance Division, Regulatory Information Management Services, Office of Management, invites comments on the proposed information collection requests as required by the Paperwork Reduction Act of 1995.

DATES: ED has requested emergency review of this information collection by OMB, as authorized under 44 U.S.C. 3507(j), because the use of normal clearance procedures is reasonably likely to prevent or disrupt the collection of information on a timely basis. Persons who wish to comment regarding the emergency approval must submit their comments to OMB by August 20, 2010. If OMB approves this emergency information collection request, the collection will be approved for a period not to exceed 180 days.

At the same time, ED requests comments for a full, three-year approval of this information collection request (ICR). Persons are invited to submit comments to ED on or before October 12, 2010.

ADDRESSES: Written comments regarding the emergency approval of this ICR should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Comments regarding the full approval of this ICR for a three-year period should be e-mailed to ICDocketMgr@ed.gov.

SUPPLEMENTARY INFORMATION: Section 3506 of the Paperwork Reduction Act of 1995 (44 U.S.C. chapter 35) requires that the Director of OMB provide interested Federal agencies and the public an early opportunity to comment on information collection requests. The Office of Management and Budget (OMB) may amend or waive the requirement for public consultation to the extent that public participation in the approval process would defeat the purpose of the information collection, violate State or Federal law, or substantially interfere with any agency's ability to perform its statutory obligations. The Acting Director, Information Collection Clearance Division, Regulatory Information Management Services, Office of Management, publishes this notice containing proposed information collection requests at the beginning of ED's review of the information collection. Each proposed information collection, grouped by office, contains the following: (1) Type of review requested (e.g., new, revision, extension, existing or reinstatement); (2) Title; (3) Summary of the collection; (4) Description of the need for, and proposed use of, the information; (5) Respondents and frequency of collection; and (6) Reporting and/or Recordkeeping burden. ED invites public comment. ED is especially interested in public comment addressing the following issues: (1) Is this collection necessary to the proper functions of ED; (2) will this information be processed and used in a timely manner; (3) is the estimate of burden accurate; (4) how might ED enhance the quality, utility, and clarity of the information to be collected; and (5) how might ED minimize the burden of this collection on respondents, including through the use of information technology.

Dated: August 5, 2010.
James Hyler,
Acting Director, Information Collection Clearance Division, Regulatory Information Management Services, Office of Management.

Office of Innovation and Improvement

Type of Review: New.

Title: TEACH.gov Job Listing Collection and Publication.

OMB #: 1855-NEW.

Agency Form #: N/A.

Frequency: On Occasion.

Affected Public: Businesses or other for-profit; Not-for-profit institutions; State, Local, or Tribal Government, State Educational Agencies (SEAs) or Local Education Agencies (LEAs).

Reporting and Recordkeeping Hour Burden:

Responses: 60,000.

Burden Hours: 4,500.

Abstract: TEACH.gov will be a Web site clearinghouse for information necessary to become a PK-12 teacher, including, but not limited to: career preparation information, financial aid packages, certification resources, job listings and state/district profiles. TEACH.gov will also provide inspirational material to help promote and raise the perception of the teaching profession.

This Information Collection Request (ICR) represents the job listing section of TEACH.gov. TEACH.gov does not aim to become a “job bank.” TEACH.gov will offer a section on the web site that displays an aggregate of existing teacher jobs throughout the United States. TEACH.gov will display a limited amount of job listing information on its Web site and the viewer will click through the source Web site link to view the full job description and application instructions.

The publishers of a job listing may be: a commercial or non-profit job listing service, a state educational agency (State Department of Education), a local educational agency (school district) or a school not operating within a school district. For the launch of TEACH.gov, the Web site will collect and publish teacher jobs for Pre-Kindergarten through Grade 12.

Additional Information: ED seeks emergency approval for a fully-functional web based application that would link prospective teachers to opportunities for preparation, licensure, and employment. The job-posting feature phase of this web site must be fully functional by next month, September 2010, so the Administration can provide an effective resource for prospective and current teachers who are interested in teaching opportunities throughout the United States. In order to meet this need, ED must be able to collect limited information before the expiration of the time period established under the Paperwork Reduction Act of 1995.

The FY 2009 appropriation for the School Improvement Program, authorizes the Secretary to establish a national initiative, such as the TEACH campaign, to improve the recruitment, training, mentoring, retention, and placement of teachers and principals in order to improve educational outcomes. Only 7 percent of teachers are African American and 7 percent of teachers are Latino. The Nation also faces a major shortage of individuals who teach science, technology, engineering, and math (STEM). TEACH.gov is an essential component of the Secretary's effort to increase interest in and access to the teaching profession, particularly among minority individuals, and particularly in teaching science, technology, engineering, and math (STEM). TEACH.gov will be a virtual “one stop shopping center” for aspiring teachers to learn about ways to find a career in teaching that is personally best for them.

The TEACH campaign, which includes TEACH.gov, is a high priority of the Secretary and has the full and enthusiastic support of the President. Indeed, the Secretary is committed to delivering a full functioning Web site for the start of this coming school year and is scheduled to unveil TEACH.gov to the public next month with endorsements by the President and a variety of celebrities.

The Secretary plans to enter into partnerships with several organizations that support increasing interest in, and access to, the teaching profession, particularly among minority individuals and particularly for teaching STEM subjects. These organizations will work with the Department to direct aspiring minority and STEM teacher candidates to TEACH.gov to seek information about career opportunities as a teacher.

We ask for emergency approval because both the President and the Secretary believe that it is imperative that we increase interest in, and access to, the teaching profession, particularly for minority individuals and individuals who are interested in teaching STEM subjects. The Secretary believes that TEACH.gov will be very effective at achieving this objective, and no other Web site currently exists that is as comprehensive as TEACH.gov. We must launch TEACH.gov as soon as possible to meet the needs of schools and school districts in the coming academic year. Without approval of the Secretary's emergency request, we will be prohibited from collecting and providing essential information to aspiring teachers in a timely manner. Failure to launch TEACH.gov for this coming academic year would significantly reduce the effectiveness of the Administration's effort to increase the number of minority teachers and teachers of STEM subjects.

Requests for copies of the proposed information collection request may be accessed from http://edicsweb.ed.gov, by selecting the “Browse Pending Collections” link and by clicking on link number 4372. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-19749 Filed 8-10-10; 8:45 am]

BILLING CODE P